DEPARTMENT OF TRANSPORTATION

Office of the Secretary

Aviation Proceedings, Agreements Filed Between August 25, 2003 and September 5, 2003

The following Agreements were filed with the Department of Transportation under the provisions of 49 U.S.C. 412 and 414. Answers may be filed within 21 days after the filing of the application.

Agreements filed during week ending: August 26, 2003.

Docket Number: OST-2003-16013.

Date Filed: August 25, 2003.

Parties: Members of the International Air Transport Association.

Subject: PTC COMP 1078 dated 8 August 2003, Composite Resolution 001w, Minutes—PTC COMP 1087 dated 26 August 2003, Intended effective date: 1 April 2004.

Docket Number: OST-2003-16014.

Date Filed: August 25, 2003.

Parties: Members of the International Air Transport Association.

Subject: PTC COMP 1079 dated 8 August 2003, Composite Resolutions 012 and 024d, Minutes—PTC COMP 1087 dated 26 August 2003, Intended effective date: 1 April 2004.

Docket Number: OST-2003-16016.

Date Filed: August 25, 2003.

Parties: Members of the International Air Transport Association.

Subject: PTC COMP 1080 dated 8 August 2003, Composite Resolutions r1-r8, Minutes—PTC COMP 1087 dated 26 August 2003, Intended effective date: 1 April 2004.

Docket Number: OST-2003-16017.

Date Filed: August 25, 2003.

Parties: Members of the International Air Transport Association.

Subject: PTC COMP 1081 dated 8 August 2003, Composite Resolutions 087aa and 210, Minutes—PTC COMP 1087 dated 26 August 2003, Intended effective date: 1 April 2004.

Docket Number: OST-2003-16020.

Date Filed: August 25, 2003.

Parties: Members of the International Air Transport Association.

Subject: PTC COMP 1082 dated 8 August 2003, Composite Resolution 300, Minutes—PTC COMP 1087 dated 26 August 2003, Intended effective date: 1 April 2004.

Docket Number: OST-2003-16021.

Date Filed: August 25, 2003.

Parties: Members of the International Air Transport Association.

Subject: PTC COMP 1083 dated 8 August 2003, Composite Resolution 301, Minutes—PTC COMP 1087 dated 26 August 2003, Intended effective date: 1 April 2004.

Docket Number: OST-2003-16022.

Date Filed: August 25, 2003.

Parties: Members of the International Air Transport Association.

Subject: PTC1 0267 dated 15 August 2003, TC1 Areawide Resolutions r1-r4, Minutes—PTC1 0272 dated 26 August 2003, Intended effective date: 1 January 2004.

Docket Number: OST-2003-16023.

Date Filed: August 25, 2003.

Parties: Members of the International Air Transport Association.

Subject: PTC1 0268 dated 15 August 2003, TC1 Caribbean Resolutions r1-r13, Minutes—PTC1 0272 dated 26 August 2003, Tables—PTC1 Fares 0084 dated 15 August 2003, Intended effective date: 1 November 2003.

Docket Number: OST-2003-16024.

Date Filed: August 25, 2003.

Parties: Members of the International Air Transport Association.

Subject: PTC1 0269 dated 15 August 2003, TC1 Longhaul (except between USA-Chile, Panama), Resolutions r1-r35, Minutes—PTC1 0272 dated 26 August 2003, Tables—PTC1 Fares 0085 dated 15 August 2003, Intended effective date: 1 January 2004.

Docket Number: OST-2003-16025.

Date Filed: August 25, 2003.

Parties: Members of the International Air Transport Association.

Subject: PTC1 0270 dated 15 August 2003, TC1 USA-Chile, Panama Resolutions r1-r15, Minutes—PTC1 0272 dated 26 August 2003, Tables—PTC1 Fares 0085 dated 15 August 2003, Intended effective date: 1 January 2004.

Docket Number: OST-2003-16027.

Date Filed: August 25, 2003.

Parties: Members of the International Air Transport Association.

Subject: PTC1 0271 dated 15 August 2003, TC1 Within South America Resolutions r1-r11, Minutes—PTC1 0272 dated 26 August 2003, Tables—PTC1 Fares 0086 dated 15 August 2003, Intended effective date: 1 January 2004.

Agreement filed during week ending: September 5, 2003.

Docket Number: OST-2003-16093.

Date Filed: September 3, 2003.

Parties: Members of the International Air Transport Association.

Subject: YMQ/GEN/110/03 dated July 9, 2003, Circulation of Mail Vote—Resolution 801r R-1, YMQ/GEN/111/03 dated July 30, 2003, Notice of adoption of Mail Vote, YMQ/GEN/112/03 dated August 25, 2003, Adopted Mail Vote 112/03, Intended effective date: October 1, 2003.

Andrea M. Jenkins,
Program Manager, Docket Operations, Federal Register Liaison.

[FR Doc. 03-23774 Filed 9-17-03; 8:45 am]

BILLING CODE 4910-62-P